DEPARTMENT OF TRANSPORTATION

Federal Aviation Administration

Notice of Intent to Rule on Application 07-08-C-00-DCA to impose a Passenger Facility Charge (PFC) at Ronald Reagan Washington National Airport (DCA), Alexandria, Virginia and use the Revenue from the PFC at Washington Dulles International Airport (IAD), Dulles, VA

AGENCY: Federal Aviation Administration (FAA), DOT.

ACTION: Notice of intent to rule on application.

SUMMARY: The FAA proposes to rule and invites public comment on the application to impose a PFC at Ronald Reagan Washington National Airport (DCA), and use the Revenue from the PFC at Washington Dulles International Airport (IAD) under the provisions of the 49 U.S.C. 40117 and part 158 of the Federal Aviation Regulations (14 CFR part 158).

DATES: Comments must be received on or before October 18, 2007.

ADDRESSES: Comments on this application may be mailed or delivered in triplicate to the FAA at the following address: Washington Airports District Office (ADO), 23723 Air Freight Lane, Suite 210, Dulles, Virginia, 20166.

In addition, one copy of any comments submitted to the FAA must be mailed or delivered to Lynn Hampton, Chief Financial Officer, Metropolitan Washington Airport Authority at the following address: 1 Aviation Circle, Washington, DC 2001-6000.

Air carriers and foreign air carriers may submit copies of written comments previously provided to the Metropolitan Washington Airport Authority under section 158.23 of part 158.

FOR FURTHER INFORMATION CONTACT: Luis Loarte, Airport Planner, Washington Airports District Office (ADO), 23723 Air Freight Lane, Suite 210, Dulles, Virginia, 20166, (703) 661-1365.

The application may be reviewed in person at this same location.

SUPPLEMENTARY INFORMATION: The FAA proposes to rule and invites public comment on the application to impose a PFC at Ronald Reagan Washington National Airport (DCA), and use the Revenue from the PFC at Washington Dulles International Airport (IAD) under the provisions of 49 U.S.C. 40117 and Part 158 of the Federal Aviation Regulations (14 CFR part 158).

On June 21, 2007, the FAA determined that the application to impose and use the revenue from a PFC submitted by Metropolitan Washington Airport Authority was substantially complete within the requirements of section 158.25 of part 158. The FAA will approve or disapprove the application, in whole or in part, no later than October 21, 2007.

The following is a brief overview of the application.

Proposed charge effective date: January 1, 2011.

Proposed charge expiration date: May 1, 2014.

Level of the proposed PFC: $4.50.

Total estimated PFC revenue: $124,914,400.

Brief description of proposed project(s): Expansion of the International Arrival Building (IAB).

Class or classes of air carriers which the public agency has requested not be required to collect PFCs: Non Scheduled/On Demand Air Carriers Filing Form 1800-31.

Any person may inspect the application in person at the FAA office listed above under FOR FURTHER INFORMATION CONTACT and at the FAA regional airports office located at: 159-30 Rockaway Blvd, Jamaica, New York.

In addition, any person may, upon request, inspect the application, notice and other documents germane to the application in person at the Metropolitan Washington Airport Authority.

Issued in Jamaica, New York on September 10, 2007.
William Flanagan,
Manager, Airports Division, Eastern Region.

[FR Doc. 07-4606 Filed 9-17-07; 8:45 am]

BILLING CODE 4910-13-M